DEPARTMENT OF JUSTICE

Notice of Public Comment Period for Proposed consent Decree Under the Clean Air

Under 28 CFR 50.7, notice is hereby given that, for a period of 30 days, the United States will receive public comments on a proposed Consent Decree in United States v. Cargill, Incorporated, (Civil Action No. 05-2037 JMR/FLN), which was lodged with the United States District Court for the District of Minnesota on September 1, 2005.

This proposed Consent Decree was lodged simultaneously with the Complaint in this national environmental enforcement action against Cargill, pursuant to Sections 113(b) and 211(d) of the Clean Air Act (“CAA”), 42 U.S.C. 7413(b) (1983), amended by, 42 U.S.C. 7413(b) (Supp. 1991).

Under the settlement, Cargill will implement pollution control technologies to greatly reduce emissions of volatile organic compounds (“VOC”), nitrogen oxides (“Nox”), carbon monoxide (“CO”), and sulfur dioxide (“SO2”) from corn and oilseed processing units across 27 plants in 13 states, which will result in emission reductions of approximately 30,000 tons per year.

In addition, Cargill will pay a civil penalty of $1.6 million, and spend $3.5 million on Supplemental Environmental Projects (“SEPs”). This action is the result of a cooperative enforcement effort resulting in 10 states and 4 counties, Alabama, Georgia, Illinois, Indiana, Iowa, Missouri, Nebraska, North Carolina, North Dakota, Ohio, Memphis and Shelby County, Tennessee, the Ohio County of Montgomery, and the Iowa Counties of Linn and Polk, joining in this settlement as Plaintiff-Interveners and signatories to the Consent Decrees. Each will share in the civil penalties assessed and will benefit from Cargill's performance of the SEPs in many of the communities where the plants are located.

Comments should be addressed to the Acting Assistant Attorney General, Environment and Natural Resources Division, P.O. Box 7611, U.S. Department of Justice, Washington, DC 20044-7611, and should refer to United States v. Cargill, Incorporated, D.J. Ref. 90-5-2-1-07481/1.

The Consent Decree may be examined at the Office of the United States Attorney, District of Minnesota, 600 U.S. Courthouse, 300 South Fourth Street, Minneapolis, MN 55415. During the public comment period the Cargill Consent Decree may also be examined on the following Department of Justice Web site, http://www.usdoj.gov/enrd/open.html. A copy of the Cargill Consent Decree, may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 51 4-1547. In requesting a copy from the Consent Decree Library, please enclose a check in the amount of $31.00 (includes attachments), or $14.00, without attachments (25 cents per page reproduction cost) payable to the U.S. Treasury.

Robert E. Maher, Jr.,
Assistant Chief, Environmental Enforcement Section, Environment and Natural Resources Division.

[FR Doc. 05-18297 Filed 9-14-05; 8:45 am]

BILLING CODE 4410-15-M